CORPORATION FOR NATIONAL AND COMMUNITY SERVICE

Revision of Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed revision of its Senior Corps Grant Application (424-NSSC) (OMB Control Number 3045-0035). CNCS proposes to revise the Senior Corps Grant Application with the following modifications to:

• Align language with standard national performance measure requirements; revise the Grant Application Narrative questions to clarify new concepts;

• Simplify language and wording of questions;

• Revise questions to better express the desired outcomes;

• Facilitate stronger alignment between narrative sections and the performance measures work plans. The proposed revisions do not change the estimated respondent burden.

Copies of the information collection request can be obtained by contacting the office listed in the addresses section of this Notice.

DATES: Written comments must be submitted to the individual and office listed in the ADDRESSES section by February 8, 2013.

ADDRESSES: You may submit comments, identified by the title of the information collection activity, by any of the following methods:

(1) By mail sent to: Corporation for National and Community Service, Senior Corps, Attention: Ms. Angela Roberts, Associate Director, 9401; 1201 New York Avenue NW., Washington, DC 20525.

(2) By hand delivery or by courier to the CNCS mailroom at Room 8100 at the mail address given in paragraph (1) above, between 9:00 a.m. and 4:00 p.m. Monday through Friday, except Federal holidays.

(3) By fax to: (202) 606-3475, Attention: Ms. Angela Roberts, Associate Director.

(4) Electronically through www.regulations.gov. Individuals who use a telecommunications device for the deaf (TTY-TDD) may call (202) 606-3472 between 8:30 a.m. and 5:00 p.m. Eastern Time, Monday through Friday.

FOR FURTHER INFORMATION CONTACT: Angela Roberts by email at aroberts@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Senior Corps Grant Application is completed by applicant organizations interested in sponsoring a Senior Corps program. The grant application is also used by existing grantees to apply for continuation year grants (annual submissions in years two and three of a three year grant). The grant application is completed electronically using the CNCS web-based grants management system, eGrants.

Current Action

CNCS seeks to revise the current application with modifications. The proposed revisions do not change the estimated respondent burden. The information collection will otherwise be used in the same manner as the existing application. CNCS also seeks to continue using the current application until the revised application is approved by OMB. The current application is due to expire on September 30, 2015.

Type of Review: Revision.

Agency: Corporation for National and Community Service.

Title: National Senior Service Corps Grant Application.

OMB Number: 3045-0035.

Agency Number: SF 424-NSSC.

Affected Public: Current and prospective sponsors of National Senior Service Corps Grants.

Total Respondents: 1,250.

Frequency: Annually, with exceptions.

Average Time per Response: Estimated at 16.5 hours each for 180 first-time respondents; 15 hours each for 900 continuation sponsors; 5 hours each for 270 revisions.

Estimated Total Burden Hours: 17,820 hours.

Total Burden Cost (capital/startup): None.

Total Burden Cost (operating/maintenance): None.

Comments submitted in response to this notice will be summarized and/or included in the request for Office of Management and Budget approval of the information collection request; they will also become a matter of public record.

Dated: December 3, 2012.
Erwin Tan,
Director, Senior Corps.

[FR Doc. 2012-29780 Filed 12-7-12; 8:45 am]

BILLING CODE 6050-$$-P